DEPARTMENT OF TRANSPORTATION

Federal Aviation Administration

14 CFR Part 39

[Docket No. FAA-2009-0215; Directorate Identifier 2007-NM-278-AD; Amendment 39-15850; AD 2009-06-13]

RIN 2120-AA64

Airworthiness Directives; Airbus Model A321-131 Airplanes

AGENCY: Federal Aviation Administration (FAA), Department of Transportation (DOT).

ACTION: Final rule; request for comments.

SUMMARY: The FAA is adopting a new airworthiness directive (AD) for certain Airbus Model A321-131 airplanes. This AD requires repetitive ultrasonic inspections to detect cracks in the wing inner rear spars at the attachment holes of the Main Landing Gear (MLG) forward pintle fitting, the actuator cylinder anchorage fitting, and rib 5 fitting; and repair of the sealant or repair of any crack. This AD results from a finding that certain A321-131 airplanes may not reach the design life goal due to differences in thickness of the inner rear spars and that fatigue cracks may develop on inner rear spars starting from the fastener holes for the attachment of gear rib 5, the forward pintle fitting, and the actuating cylinder anchorage on these airplanes. We are issuing this AD to detect and correct such fatigue cracks, which could result in reduced structural integrity of the airplane.

DATES: This AD becomes effective March 31, 2009.

The Director of the Federal Register approved the incorporation by reference of a certain publication listed in the AD as of March 31, 2009.

We must receive comments on this AD by April 15, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, Airworthiness Office—EAS, 1 Rond Point Maurice Bellonte, 31707 Blagnac Cedex, France; fax +33 5 61 93 44 51; e-mail: account.airworth-eas@airbus.com; Internet http://www.airbus.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-4056; telephone 425-227-2141; fax 425-227-1320.

SUPPLEMENTARY INFORMATION:

Discussion

The European Aviation Safety Agency (EASA), which is the Technical Agent for the Member States of the European Community, notified us that an unsafe condition may exist on certain Airbus Model A321-131 airplanes. EASA advises that two airplanes, manufacturer serial number (MSN) 364 and 385, may not reach the design life goal due to differences in thickness of the inner rear spars and that fatigue cracks may develop on inner rear spars starting from the fastener holes for the attachment of gear rib 5, the forward pintle fitting, and the actuating cylinder anchorage on these airplanes. This condition, if not detected and corrected, could result in reduced structural integrity of the airplane.

Other Relevant Rulemaking

We previously issued airworthiness directive (AD) 2006-04-11 R1, amendment 39-14628 (71 FR 32807, June 7, 2006), applicable to certain Airbus Model A321-111, -112, and -131 airplanes; MSNs 364 and 385 were specifically excluded. That AD requires repetitive inspections to detect fatigue cracking in the area surrounding certain attachment holes of the forward pintle fittings of the main landing gear and the actuating cylinder anchorage fittings on the inner rear spars; and repair, if necessary. That AD also provides for optional terminating action for the repetitive inspections, adds inspections of three additional mounting holes, and revises the inspection thresholds required by an earlier AD.

Relevant Service Information

Airbus has issued Service Bulletin A320-57-1126, dated August 8, 2003. The service bulletin describes procedures for doing repetitive ultrasonic inspections to detect cracks in the wing inner rear spars at the attachment holes of the MLG forward pintle fitting, the actuator cylinder anchorage fitting, and rib 5 fitting; and repairing of the sealant if no cracks are found or contacting Airbus for repair instructions if any cracks are found.

The EASA mandated the service information and issued airworthiness directive 2007-0162, dated June 12, 2007 (referred to after this as “the MCAI”), to ensure the continued airworthiness of these airplanes in the European Union. The EASA airworthiness directive also includes requirements for other Model A321 airplanes; however, FAA AD 2006-04-11 R1, described previously, adequately addresses these other requirements (as specified in paragraph 1 of the MCAI).

FAA's Determination and Requirements of This AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Therefore, we are issuing this AD to detect and correct fatigue cracks on the wing inner rear spars. This AD requires accomplishing the actions specified in the service information described previously, except as discussed under “Difference Between the AD and Service Bulletin.”

Difference Between the AD and Service Bulletin

The service bulletin specifies to contact the manufacturer for instructions on how to repair certain conditions, but this AD requires repairing those conditions using a method approved by the FAA or EASA (or its delegated agent). In light of the type of repair that is required to address the unsafe condition, and consistent with existing bilateral airworthiness agreements, we have determined that, for this AD, a repair approved by the FAA or EASA (or its delegated agent) would be acceptable for compliance with this AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
Inspection, per inspection cycle | 46 | $80 | None | $3,680 per inspection cycle.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0215; Directorate Identifier 2007-NM-278-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2009-06-13 Airbus: Amendment 39-15850. Docket No. FAA-2009-0215; Directorate Identifier 2007-NM-278-AD.

Effective Date

(a) This AD becomes effective March 31, 2009.

Affected ADs

(b) None.

Applicability

(c) This AD applies to Airbus Model A321-131 airplanes, certificated in any category, manufacturer serial numbers (MSNs) 364 and 385.

Subject

(d) Air Transport Association (ATA) of America Code 57: Wings.

Unsafe Condition

(e) This AD results from a finding that certain A321-131 airplanes may not reach the design life goal due to differences in thickness of the inner rear spars and that fatigue cracks may develop on inner rear spars starting from the fastener holes for the attachment of gear rib 5, the forward pintle fitting, and the actuating cylinder anchorage on these airplanes. We are issuing this AD to detect and correct fatigue cracks on the wing inner rear spars, which could result in reduced structural integrity of the airplane.

Compliance

(f) You are responsible for having the actions required by this AD performed within the compliance times specified, unless the actions have already been done.

Repetitive Inspections

(g) At the later of the times specified in paragraphs (g)(1) and (g)(2) of this AD, do an ultrasonic inspection to detect cracks of the left-hand and right-hand wing inner rear spars at the attachment holes of the main landing gear (MLG) forward pintle fitting, the actuator cylinder anchorage fitting, and gear rib 5 fitting, in accordance with the Accomplishment Instructions of Airbus Service Bulletin A320-57-1126, dated August 8, 2003. Repeat the inspection thereafter at intervals not to exceed 3,600 flight cycles or 5,600 flight hours, whichever occurs first.

(1) Before the accumulation of 24,000 total flight cycles or 39,400 total flight hours from first flight, whichever occurs first.

(2) Within 6 months after the effective date of this AD.

Repair

(h) If no crack is detected during any inspection required by paragraph (g) of this AD, before further flight, repair the sealant in the inspected areas in accordance with the Accomplishment Instructions of Airbus Service Bulletin A320-57-1126, dated August 8, 2003.

(i) If any crack is detected during any inspection required by paragraph (g) of this AD, before further flight, repair the crack using a method approved by either the Manager, International Branch, ANM-116, Transport Airplane Directorate, FAA; or the European Aviation Safety Agency (EASA) (or its delegated agent).

Alternative Methods of Compliance (AMOCs)

(j) The Manager, International Branch, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-4056; telephone 425-227-2141; fax 425-227-1320. Before using any approved AMOC on any airplane to which the AMOC applies, notify your principal maintenance inspector (PMI) or principal avionics inspector (PAI), as appropriate, or lacking a principal inspector, your local Flight Standards District Office.

Related Information

(k) EASA airworthiness directive 2007-0162, dated June 12, 2007, also addresses the subject of this AD.

Material Incorporated by Reference

(l) You must use Airbus Service Bulletin A320-57-1126, dated August 8, 2003, to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; fax +33 5 61 93 44 51; e-mail: account.airworth-eas@airbus.com; Internet http://www.airbus.com.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Issued in Renton, Washington, on February 27, 2009.
Ali Bahrami,
Manager, Transport Airplane Directorate, Aircraft Certification Service.

[FR Doc. E9-5009 Filed 3-13-09; 8:45 am]

BILLING CODE 4910-13-P